DEPARTMENT OF AGRICULTURE

Forest Service

Recreation Resource Advisory Committees

AGENCY: Forest Service, USDA.

ACTION: Call for nominations for the Pacific Northwest Recreation Resource Advisory Committees.

SUMMARY: The Secretary of Agriculture has established the Pacific Northwest Recreation Resource Advisory Committees (Recreation RACs) pursuant to section 4 of the Federal Lands Recreation Enhancement Act (REA) that was passed into law as part of the 2005 Consolidated Appropriations Act (Pub. L. 108-447) on December 8, 2004. The purpose of this Recreation RAC is to provide recommendations regarding recreation fees to both the Forest Service and the Bureau of Land Management (BLM) as appropriate. There are currently three vacancies on the Recreation RAC: Summer Motorized Recreation, Summer Motorized Outfitter and Guide Recreation, and Tribal. The public is invited to submit nominations for membership on the Recreation RACs.

DATES: All nominations should be received by the appropriate Regional Office by May 5, 2010. If necessary, manager may continue accepting applications beyond this date to ensure broad and balanced representation on the Recreation RAC. Nominations must contain a completed application packet that includes background information and other information that addresses a nominee's qualifications. Application packets for Recreation RACs can be obtained from the Forest Service Regional Office listed below or on the Web at http://www.fs.fed.us/passespermits/rrac-application.shtml.

ADDRESSES:

Regional Contacts for Recreation RACs

1. Pacific Northwest Regional Office: Shandra Terry, Regional Public Involvement Coordinator, Public Affairs, 333 SW 1st Ave., Portland, OR 97208, (503) 808-2242.

FOR FURTHER INFORMATION CONTACT: Julie Cox, National Recreation RAC Coordinator, 333 SW 1st Avenue, Portland, OR 97208, (503) 808-2984.

SUPPLEMENTARY INFORMATION:

Nomination and Application Information for Recreation RACs

Each Forest Service Recreation RAC shall consist of 11 members appointed by the Secretary of Agriculture. These members shall provide a broad and balanced representation from the recreation community as follows:

1. Five persons who represent recreation users and that include, as appropriate, the following:

a. Winter motorized recreation, such as snowmobiling;

b. Winter nonmotorized recreation, such as snowshoeing, cross country and downhill skiing, and snowboarding;

c. Summer motorized recreation, such as motorcycles, boaters, and off-highway vehicles;

d. Summer nonmotorized recreation, such as backpacking, horseback riding, mountain biking, canoeing, and rafting; and

e. Hunting and fishing.

2. Three persons who represent interest groups that include, as appropriate, the following:

a. Motorized outfitters and guides;

b. Nonmotorized outfitters and guides; and

c. Local environmental groups.

3. Three persons, as follows:

a. A State tourism official to represent the State;

b. A person who represents affected Indian tribes; and

c. A person who represents affected local government interests.

Any individual or organization may nominate one or more qualified persons to represent the interests listed above to serve on the Recreation RAC. To be considered for membership, nominees must—

1. Identify what interest group they would represent and how they are qualified to represent that group;

2. State why they want to serve on the committee and what they can contribute;

3. Show their past experience in working successfully as part of a collaborative group; and

4. Complete Form AD-755, Advisory Committee or Research and Promotion Background Information.

Letters of recommendation are welcome. Individuals may also nominate themselves. Nominees do not need to live in a State within a particular Recreation RAC area of jurisdiction nor live in a State in which Forest Service-managed lands are located.

Application packets, including evaluation criteria and the AD-755 form, are available at http://www.fs.fed.us/passespermits/rrac or by contacting the respective regions identified in this notice. Nominees must submit all documents to the appropriate regional contact. Additional information about recreation fees and REA is available at http://www.fs.fed.us/passespermits/about-rec-fees.shtml.

The Agency will also work with Governors and county officials to identify potential nominees.

The Agency will review the applications and prepare a list of qualified applicants from which the Secretary of Agriculture shall appoint both committee members and alternates. An alternate will become a participating member of the Recreation RACs only if the member for whom the alternate is appointed to replace leaves the committee permanently.

Recreation RAC members serve without pay but are reimbursed for travel and per diem expenses for regularly scheduled committee meetings. All Recreation RAC meetings are open to the public and an open public forum is part of each meeting. Meeting dates and times will be determined by Agency officials in consultation with the Recreation RAC members, when the committee is formed.

Dated: April 8, 2010.
J. Lenise Lago,
Deputy Regional Forester.

[FR Doc. 2010-8487 Filed 4-14-10; 8:45 am]

BILLING CODE 3410-11-M